DEPARTMENT OF HOMELAND SECURITY

Coast Guard

33 CFR Part 100

[Docket No. USCG-2020-0148]

RIN 1625-AA08

Special Local Regulation; Chesapeake Bay, Between Sandy Point and Kent Island, MD

AGENCY: Coast Guard, DHS.

ACTION: Notice of proposed rulemaking; withdrawal.

SUMMARY: The Coast Guard is withdrawing its proposed rule to establish temporary special local regulations for certain waters of the Chesapeake Bay. The rulemaking was initiated to establish a special local regulation during the “Bay Bridge Paddle,” a marine event to be held on certain waters of the Chesapeake Bay located between Sandy Point in Anne Arundel County, MD, and Kent Island in Queen Anne's County, MD. The proposed rule is being withdrawn because it is no longer necessary. The event sponsor has cancelled the paddling event.

DATES: The Coast Guard is withdrawing the proposed rule for the event scheduled on September 27, 2020 from 7 a.m. to 1:30 p.m. published on June 2, 2020 (85 FR 33592) as of August 7, 2020.

ADDRESSES: To view the docket for this withdrawn rulemaking, go to https://www.regulations.gov, type USCG-2020-0148 in the “SEARCH” box and click “SEARCH.” Click on Open Docket Folder on the line associated with this rule.

FOR FURTHER INFORMATION CONTACT: If you have questions about this notice, call or email Mr. Ron Houck, Waterways Management Division, U.S. Coast Guard Sector Maryland-National Capital Region; telephone 410-576- 2674, email Ronald.L.Houck@uscg.mil.

SUPPLEMENTARY INFORMATION:

Background Information and Regulatory History

On June 2, 2020, we published an NPRM entitled “Special Local Regulation; Chesapeake Bay, Between Sandy Point and Kent Island, MD” in the Federal Register (85 FR 33592). The proposed rulemaking concerned the Coast Guard's establishment of a temporary special local regulation for certain navigable waters of the Chesapeake Bay, effective from 7 a.m. to 1:30 p.m. on September 27, 2020. This action was necessary to provide for the safety of life on these waters during a paddling event. This rulemaking would have prohibited persons and vessels from entering the regulated area unless authorized by the Captain of the Port Maryland-National Capital Region or the Coast Guard Patrol Commander.

Withdrawal

The proposed rule is being withdrawn due to the regulated area no longer being necessary following a cancellation of the paddling event by the event sponsor.

Authority

We issue this notice of withdrawal under the authority of 46 U.S.C. 70041.

Dated: July 28, 2020.
Joseph B. Loring,
Captain, U.S. Coast Guard, Captain of the Port Maryland-National Capital Region.

[FR Doc. 2020-16829 Filed 8-6-20; 8:45 am]

BILLING CODE 9110-04-P